DEPARTMENT OF EDUCATION

34 CFR Parts 600 and 668

[Docket ID ED-2018-OPE-0076]

RIN 1840-AD38

Distance Education and Innovation; Correction

AGENCY: Office of Postsecondary Education, Department of Education.

ACTION: Proposed rule; correction.

SUMMARY: On April 2, 2020, the Department published in the Federal Register a notice of proposed rulemaking to amend the general, establishing eligibility, maintaining eligibility, and losing eligibility sections of the Institutional Eligibility regulations issued under the Higher Education Act of 1965, as amended (HEA), related to distance education and innovation. In that document, the Secretary also proposes to amend the Student Assistance General Provisions regulations issued under the HEA.

This document corrects the name, telephone number, and email address of the individual to whom postal mail, commercial delivery, or hand delivery should be addressed and to whom requests for further information should be directed.

DATES: Effective Date of Correction: April 15, 2020.

FOR FURTHER INFORMATION CONTACT: Gregory Martin at (202) 453-7535 or Gregory.Martin@ed.gov.

If you use a telecommunications device for the deaf (TDD) or a text telephone (TTY), call the Federal Relay Service (FRS), toll free, at 1-800-877-8339.

SUPPLEMENTARY INFORMATION:

Corrections: In FR Document 2020-05700, appearing on page 18638 in the Federal Register of April 2, 2020, the following corrections are made:

1. On page 18638, in the first column, in the section entitled “Postal Mail, Commercial Delivery, or Hand Delivery,” remove “Scott Filter” and add in its place “Gregory Martin”.

2. On page 18638, in the second column, in the section entitled For Further Information Contact, remove “Scott Filter at (202) 453-7249 or Scott.Filter@ed.gov” and add in its place “Gregory Martin at (202) 453-7535 or gregory.martin@ed.gov.”

Program Authority: 20 U.S.C. 1001, et seq.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-07893 Filed 4-14-20; 8:45 am]

BILLING CODE 4000-01-P